DEPARTMENT OF THE INTERIOR

Fish and Wildlife Service

[Docket No. FWS-R2-ES-2013-0130]; [FXES11120200000F2-145-FF02ENEH00]

Notice of Availability: Low-Effect Screening Form and Proposed Bosque Canyon Ranch Low-Effect Habitat Conservation Plan, Bosque County, Texas

AGENCY: Fish and Wildlife Service, Interior.

ACTION: Notice of availability of the low-effect screening form supporting a categorical exclusion, draft low-effect habitat conservation plan, incidental take permit application, and request for comments.

SUMMARY: We, the U.S. Fish and Wildlife Service (Service), announce the availability of the low-effect screening form (LESF) under the National Environmental Policy Act (NEPA) of 1969, that supports a categorical exclusion for the draft Low-Effect Habitat Conservation Plan (dHCP), and the incidental take permit application for the Bosque Canyon Ranch in Bosque County, TX. The Bosque Canyon Ranch (Applicant), has applied for an incidental take permit (ITP) under Section 10(a)(1)(B) of the Endangered Species Act (Act) of 1973, as amended. The requested permit, which would be in effect for a period of 50 years, if granted, would authorize incidental take of the golden-cheeked warbler (Setophaga chrysoparia) resulting from residential development and operation of the property.

DATES: Comments: We will accept comments received or postmarked on or before February 7, 2014. Comments submitted electronically using the Federal e-Rulemaking Portal (see ADDRESSES section, below) must be received by 11:59 p.m. Eastern Time on the closing date. Any comments that we receive after the closing date may not be considered in the final decisions on these actions.

ADDRESSES: Obtaining Documents:

• Internet: You may obtain copies of the documents on the Internet at http://www.regulations.gov (Docket Number FWS-R2-ES-2013-0130), or on the Service's Web site at http://www.fws.gov/southwest/es/ArlingtonTexas/.

• U.S. Mail: Arlington, Texas, Ecological Services Field Office, 2005 NE. Green Oaks Blvd., Suite 140, TX 76006; telephone 817-277-1100. Please note that your request is in reference to the BCRHCP (TE-21506B).

• In-Person: Copies of the draft LESF and draft low-effect HCP are also available for public inspection and review at the following locations, by appointment and written request only, 8 a.m. to 4:30 p.m.:

○ Department of the Interior, Natural Resources Library, 1849 C. St. NW., Washington, DC 20240.

○ U.S. Fish and Wildlife Service, 500 Gold Avenue SW., Room 6034, Albuquerque, NM 87102.

○ U.S. Fish and Wildlife Service, 2005 NE. Green Oaks Blvd., Suite 140, TX 76006; calling 817-277-1100.; or faxing 817-277-1129.

Persons wishing to review the application may obtain a copy by writing to the Regional Director, U.S. Fish and Wildlife Service, P.O. Box 1306, Room 4012, Albuquerque, NM 87103, Attention: Branch Chief, Environmental Review.

Comment submission: You may submit written comments by one of the following methods:

• Electronically: Go to the Federal e-Rulemaking Portal: http://www.regulations.gov. In the Search box, enter FWS-R2-ES-2013-0130, which is the docket number for this notice. Then, on the left side of the screen, under the Document Type heading, click on the Notices link to locate this document and submit a comment.

• By hard copy: Submit by U.S. mail or hand-delivery to: Public Comments Processing, Attn: FWS-R2-ES-2013-0130; Division of Policy and Directives Management; U.S. Fish and Wildlife Service; 4401 N. Fairfax Drive, MS 2042-PDM; Arlington, VA 22203.

We request that you send comments by only the methods described above. We will post all information received on http://www.regulations.gov. This generally means that we will post any personal information you provide us (see the Public Comments section below for more information).

FOR FURTHER INFORMATION CONTACT: Debra Bills, Field Supervisor, U.S. Fish and Wildlife Service, 2005 NE. Green Oaks Blvd., Suite 140, TX 76006; or by telephone at 817-277-1100.

SUPPLEMENTARY INFORMATION: In accordance with the requirements of the National Environmental Policy Act of 1969 (NEPA) (42 U.S.C. 4321 et seq.), we advise the public that:

1. We have gathered the information necessary to determine impacts related to potential issuance of an incidental take permit (ITP) and have determined the proposed action qualifies as a low-effect HCP and is categorically excluded from the NEPA process; and,

2. The applicant has developed and proposes to implement its dHCP, as part of the application for an ITP, which describes the measures the applicant has agreed to take to minimize and mitigate the effects of incidental take of golden-cheeked warblers to the maximum extent practicable pursuant to section 10(a)(1)(B) of the Endangered Species Act of 1973 (Act), as amended (16 U.S.C. 1531 et seq.).

The requested permit, which would be in effect for a period of 50 years, if granted, would authorize incidental take of the golden-cheeked warbler (Setophaga chrysoparia) (Covered Species) as a result of residential development and operation of the property. The proposed incidental take may occur on the Bosque Canyon Ranch, Bosque County, TX (Permit Area), as a result of activities associated with the Applicant's operation and maintenance activities (Covered Activities). Such actions may require disturbance within potential golden-cheeked warbler habitat. The ranch has proposed to mitigate the 28.21 acres of direct impacts and 293.63 acres of indirect impacts to the golden-cheeked warbler onsite. A total of approximately 924.35 acres of suitable GCWA breeding habitat are present within two permanent conservation easements on the property with 770 of those acres neither directly nor indirectly affected by the proposed development. These habitat acres will be conserved in perpetuity and additional mitigation is proposed through the conservation of 227.6 acres of immature supporting habitat that will be managed to develop into suitable breeding habitat prior to the expiration of the permit.

Section 9 of the Act and its implementing regulations prohibit “take” of fish and wildlife species listed as threatened or endangered under section 4 of the Act. However, section 10(a) of the Act authorizes us to issue permits to take listed wildlife species where such take is incidental to, and not the purpose of, otherwise lawful activities and where the applicant meets certain statutory requirements.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and NEPA (42 U.S.C. 4321 et seq.) and its implementing regulations (40 CFR 1506.6).

Dana Roth,
Acting Regional Director, Southwest Region, Albuquerque, New Mexico.

[FR Doc. 2014-00082 Filed 1-7-14; 8:45 am]

BILLING CODE 4310-55-P